INTERNATIONAL TRADE COMMISSION

[Investigation No. 337-TA-1218]

Certain Variable Speed Wind Turbine Generators and Components Thereof; Commission Determination To Grant Respondents' Motion for Leave To Submit a Petition for Reconsideration Out of Time and Respondents' Petition for Reconsideration; Issuance of Corrected Commission Opinion

AGENCY: U.S. International Trade Commission.

ACTION: Notice.

SUMMARY: Notice is hereby given that the U.S. International Trade Commission (“Commission”) has determined to grant respondents' petition for reconsideration and respondents' motion for leave to submit a petition for reconsideration out of time, and to issue a corrected Commission opinion.

FOR FURTHER INFORMATION CONTACT: Ronald A. Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission had instituted this investigation on September 8, 2020, based on a complaint filed on behalf of General Electric Company of Boston, Massachusetts (“GE”). 85 FR 55492-93 (Sept. 8, 2020). The complaint, as supplemented, alleged violations of section 337 of the Tariff Act of 1930, 19 U.S.C. 1337, based upon the importation into the United States, the sale for importation, and the sale within the United States after importation of certain variable speed wind turbine generators and components thereof by reason of infringement of one or more claims of U.S. Patent Nos. 6,921,985 (“the '985 patent”) and 7,629,705 (“the '705 patent”). Id. at 55493; Order No. 10 (Dec. 2, 2020), unreviewed by Comm'n Notice (Dec. 22, 2020). Id. The Commission's notice of investigation named as respondents Siemens Gamesa Renewable Energy Inc. of Orlando, Florida; Siemens Gamesa Renewable Energy A/S of Brande, Denmark; and Gamesa Electric, S.A.U. of Zamudio, Spain (collectively, “SGRE”). Id. at 26493; 85 FR 55493. The Office of Unfair Import Investigations was not a party to the investigation. Id.

On September 10, 2021, the ALJ issued a final initial determination (“final ID”) finding a violation of section 337 with respect to the '985 patent and finding no violation with respect to the '705 patent. 86 FR 64526 (Nov. 18, 2021). On November 12, 2021, the Commission determined to review the final ID in part. Id.

On January 18, 2022, the Commission made its final determination in this investigation, finding a violation of section 337 by SGRE as to certain claims of the '985 patent and issuing a limited exclusion order and cease and desist orders to SGRE. 87 FR 3586 (Jan. 24, 2022). The Commission issued a Commission Opinion accompanying its final determination.

On February 7, 2022, SGRE filed a petition for reconsideration and a motion for leave to submit a petition for reconsideration out of time. The petition requests that the Commission correct its January 18, 2022 Opinion in this investigation to correct a technical inaccuracy. GE did not file a response to either the motion or petition.

The Commission has determined to grant SGRE's petition for reconsideration and SGRE's motion for leave to submit a petition for reconsideration out of time, and to issue a corrected Commission opinion.

The Commission vote for this determination took place on March 25, 2022.

The authority for the Commission's determination is contained in section 337 of the Tariff Act of 1930, as amended (19 U.S.C. 1337), and in part 210 of the Commission's Rules of Practice and Procedure (19 CFR part 210).

Issued: March 25, 2022.
Lisa Barton,
Secretary to the Commission.

[FR Doc. 2022-06732 Filed 3-29-22; 8:45 am]

BILLING CODE 7020-02-P